DEPARTMENT OF HEALTH AND HUMAN SERVICES

Centers for Disease Control and Prevention

Statement of Organization, Functions, and Delegations of Authority

Part C (Centers for Disease Control and Prevention) of the Statement of Organization, Functions, and Delegations of Authority of the Department of Health and Human Services (45 FR 67772-76, dated October 14, 1980, and corrected at 45 FR 69296, October 20, 1980, as amended most recently at 81 FR 84583-84591, dated November 23, 2016) is amended to reflect the reorganization of the Office of Financial Resources, Office of the Chief Operating Officer, Centers for Disease Control and Prevention.

Section C-B, Organization and Functions, is hereby amended as follows:

Delete in its entirety the title and the mission and function statements for the Office of Grants Services (CAJEY) and insert the following:

Office of Grants Services (CAJEY). Office of Grants Services (OGS) (1) provides leadership, direction, and guidance for operations and policies in matters relating to CDC/ATSDR cooperative agreements and grants; (2) plans, develops, and implements policies, procedures, and practices to ensure effective customer service, consultation, and oversight in grants processes; (3) engages CDC/ATSDR Centers/Institute/Offices (CIOs), as well as other key stakeholders to align agency-wide grants processes with applicable laws, regulations, and policies, and with CDC/ATSDR public health goals; and (4) provides all support necessary to help ensure that appropriated funds are utilized in compliance with Congressional mandate, for the sole purpose of preventing and controlling diseases domestically and globally.

Office of the Director (CAJEY1). (1) Provides overall leadership, supervision, and management of the grants staff; (2) ensures policies, processes, and procedures adhere to all rules and regulations and are in alignment with CDC's public health goals; (3) develops and implements organizational strategic planning goals and objectives; (4) provides budgetary, human resource management, and administrative support; (5) leads the development of grants policy agendas with federal agencies and organizations; (6) provides cost advisory support to assistance activities with responsibility for initiating requests for audits and evaluations, and providing recommendations to grants management officer, as required; (7) conducts continuing studies and analysis of grants activities; (8) provides technical and managerial direction for the development, implementation, and maintenance of grants systems; (9) ensures adherence to laws, policies, procedures, regulations, and alignment with CDC's public health goals; (10) provides technical and managerial direction for functions related to objective review and grants close out; (11) serves as a central CDC receipt and referral point for all applications for assistance funds, including interfacing with the automated grants systems and relevant Department of Health and Human Services (DHHS) line of business agencies; (12) distributes draft public health program announcements for review; (13) develops formal training in grants management for awardees and CDC staff; and (14) develops and implements organizational and CDC-wide policies and procedures for grants to support CDC's public health science and programs.

Infectious Disease Services Branch (CAJEYB). Infectious Disease Services Branch supports one or more CIOs. The branch (1) plans, directs, and conducts assistance management activities for CDC through the awards of domestic grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with DHHS and CDC policies; (8) ensures that grantee performance is in accordance with assistance requirements; and (9) collects and reports business management and public health programmatic data, analyzes and monitor business management data on grants and cooperative agreements and maintains assistance files.

Chronic Disease and Birth Defects Services Branch (CAJEYC). Chronic Disease and Birth Defects Services Branch supports one or more CIOs. The branch (1) plans, directs, and conducts assistance management activities for CDC through the awards of domestic grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with DHHS and CDC policies; (8) ensures that grantee performance is in accordance with assistance requirements; and (9) collects and reports business management and public health programmatic data, analyzes and monitor business management data on grants and cooperative agreements and maintains assistance files.

OD, Environmental, Occupational Health and Injury Prevention Services Branch (CAJEYD). OD, Environmental, Occupational Health and Injury Prevention Services Branch supports one or more CIOs. The branch (1) plans, directs, and conducts assistance management activities for CDC through the awards of domestic grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with DHHS and CDC policies; (8) ensures that grantee performance is in accordance with assistance requirements; and (9) collects and reports business management and public health programmatic data, analyzes and monitor business management data on grants and cooperative agreements and maintains assistance files.

Global Health Services Branch (CAJEYE). Global Health Services Branch supports one or more CIOs. The branch (1) plans, directs, and conducts assistance management activities for CDC through the awards of global (international) grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with DHHS and CDC policies; (8) ensures that grantee performance is in accordance with assistance requirements; (9) collects and reports business management and public health programmatic data, analyzes and monitor business management data on grants and cooperative agreements and maintains assistance files; and (10) provides innovative problem-solving methods in the coordination of international grants for a wide range of public health partners in virtually all major domestic and international health organizations including resolving issues with the Department of State.

Global Health Security Branch (CAJEYG). Global Health Security Branch supports one or more CIOs. The branch (1) plans, directs, and conducts assistance management activities for CDC through the awards of global (international) grants and cooperative agreements (competitive and non-competitive) across public health systems; (2) plans, directs, coordinates, and conducts the grants management functions and processes in support of public health assistance awards; (3) provides leadership and guidance to CDC project officers and public health program officials related to grants activities; (4) maintains a close working relationship with CDC program offices; (5) reviews assistance applications for conformity to laws, regulations, policies, and alignment to CDC's public health goals; (6) issues grants and cooperative agreements; (7) provides continuing surveillance of financial and administrative aspects of assistance-supported activities to ensure compliance with DHHS and CDC policies; (8) ensures that grantee performance is in accordance with assistance requirements; (9) collects and reports business management and public health programmatic data, analyzes and monitor business management data on grants and cooperative agreements and maintains assistance files; and (10) provides innovative problem-solving methods in the coordination of international grants for a wide range of public health partners in virtually all major domestic and international health organizations including resolving issues with the Department of State.

Risk and Performance Management Services Branch (CAJEYH). Risk and Performance Management Services Branch supports all agency grants operations. The branch (1) maintains situational awareness to identify issues/concerns and communicates them to OGS leadership for consideration, strategy development, and issue resolution; (2) conducts grant pre-award activities to identify potential high risk grantees; (3) manages grantee audits and monitors grantee submission of responses to audits and corrective action plans (CAPs); (4) conducts follow-up audits to determine if CAPs effectively resolved deficiencies; (5) provides audit support for matters of interest to the agency to determine suitability for referral to the Office of Inspector General or other investigative agencies; (6) coordinates and manages annual grant forecasting activities; (7) validates, analyzes, and provides data for annual planning meetings, annual reports, data calls, end-of-year coordination, and ad-hoc requests; (8) leads business processes improvement initiatives and the development of strategic plans, performance metrics, dashboards, and OGS strategic direction materials; (9) identifies systemic operational issues and works with OGS leadership to develop strategies to mitigate risk; (10) facilitates problem/issue resolution and continuous improvements based on best practices; and (11) gathers and analyzes workforce challenges, constraints and opportunities for leadership awareness and possible future initiatives.

Sherri A. Berger,
Chief Operating Officer, Centers for Disease Control and Prevention.

[FR Doc. 2017-26151 Filed 12-4-17; 8:45 am]

BILLING CODE 4160-18-P